DEPARTMENT OF COMMERCE

International Trade Administration

[A-580-816]

Corrosion-Resistant Carbon Steel Flat Products from Korea: Notice of Initiation of Antidumping Duty New Shipper Review for the period August 1, 2006, through January 31, 2007

AGENCY: Import Administration, International Trade Administration, Department of Commerce.

EFFECTIVE DATE: March 27, 2007.

SUMMARY: The Department of Commerce (“the Department”) has received a request to conduct a new shipper review of the antidumping duty (“AD”) order on corrosion-resistant carbon steel flat products from Korea (“CORE Korea”). In accordance with section 751(a)(2)(B) of the Tariff Act of 1930, as amended (“the Act”), and 19 CFR 351.214, we are initiating an AD new shipper review for Haewon MSC Co., Ltd. (“Haewon”).

FOR FURTHER INFORMATION CONTACT: Christopher Hargett, or Victoria Cho, at (202) 482-4161 or (202) 482-5075, respectively; AD/CVD Operations, Office 3, Import Administration, International Trade Administration, U.S. Department of Commerce, 14th Street and Constitution Avenue, NW., Washington, DC 20230.

SUPPLEMENTARY INFORMATION:

Background

On February 28, 2007, the Department received a timely request from Haewon, in accordance with 19 CFR 351.214(c), for a new shipper review of the AD order on CORE Korea, which has a August anniversary month.¹

¹ See Antidumping Duty Orders on Certain Cold-Rolled Carbon Steel Flat Products and Certain Corrosion-Resistant Carbon Steel Flat Products from Korea, 58 FR 44159 (August 19, 1993).

As required by 19 CFR 351.214(b)(2)(i) and (iii)(A), Haewon certified that it did not export subject merchandise to the United States during the period of investigation (“POI”), and that it has never been affiliated with any exporter or producer which exported subject merchandise during the POI.² Pursuant to 19 CFR 351.214(b)(2)(iv), the company submitted documentation establishing the date of the sale of subject merchandise to an unaffiliated customer in the United States, date of shipment, quantity, volume, and price of the shipment, and lack of`subsequent shipments.³

² See submission from Haewon MSC Co., Ltd., regarding Request for New Shipper Review, Case A-580-816, dated February 28, 2007.

³ Id.

Initiation of Review

In accordance with section 751(a)(2)(B) of the Act and 19 CFR 351.214, and based on information on the record, we are initiating an AD new shipper review for Haewon. The standard period of review in a new shipper review initiated following the semiannual anniversary month is the six months preceding the semiannual anniversary month.⁴ We intend to issue the preliminary results of this new shipper review not later than 180 days after initiation of this review and issue final results of this review no later than 90 days after the date on which the preliminary results are issued. See 19 CFR 351.214(i).

⁴ See Certain Pasta From Italy: Initiation of New Shipper Antidumping Duty Administrative Review, 62 FR 8927 (February 27, 1997).

New Shipper Review Proceeding | Period to be Reviewed
Haewon | 08/01/2006 - 01/31/2007

On August 17, 2006, the Pension Protection Act of 2006 (H.R. 4) was signed into law. Section 1632 of H.R. 4 temporarily suspends the authority of the Department to instruct U.S. Customs and Border Protection to collect a bond or other security in lieu of a cash deposit in new shipper reviews. Therefore, the posting of a bond under section 751(a)(2)(B)(iii) of the Act in lieu of a cash deposit is not available in this case. Importers of subject merchandise manufactured and exported by Haewon must continue to pay a cash deposit of estimated antidumping duties on each entry of subject merchandise at the current all-others rate of 17.70 percent.

Interested parties requiring access to proprietary information in this new shipper review should submit applications for disclosure under administrative protective order in accordance with 19 CFR 351.305 and 351.306.

This initiation and notice are published in accordance with section 751(a)(2)(B) of the Act and 19 CFR 351.214 and 351.221(c)(1)(i).

Dated: March 21, 2007.
Stephen J. Claeys,
Deputy Assistant Secretary for Import Administration.

[FR Doc. E7-5580 Filed 3-26-07; 8:45 am]

BILLING CODE 3510-DS-S